DEPARTMENT OF HEALTH AND HUMAN SERVICES

Rescission of Office for Civil Rights Documents Under Executive Order 14192

AGENCY: Office for Civil Rights (OCR), Office of the Secretary, Department of Health and Human Services.

ACTION: Notice; disavowal/repudiation or rescission of guidance.

SUMMARY: The U.S. Department of Health and Human Services (HHS), Office for Civil Rights (OCR) hereby disavows/repudiates or rescinds several documents in keeping with Executive Order 14192, Unleashing Prosperity through Deregulation and consistent with the principles in Executive Order 14219, Ensuring Lawful Governance and Implementing the President's “Department of Government Efficiency” Deregulatory Initiative.

DATES: This action is effective upon publication.

FOR FURTHER INFORMATION CONTACT: David Christensen, Supervisory Policy Advisor, HHS Office for Civil Rights, (202) 741-8460 or (800) 537-7697 (TDD), or by email at conscience@hhs.gov.

SUPPLEMENTARY INFORMATION:

I. Background

OCR has determined, under Executive Order 14192, Unleashing Prosperity Through Deregulation, and consistent with the principles in Executive Order 14219, Ensuring Lawful Governance and Implementing the President's “Department of Government Efficiency” Deregulatory Initiative, concerning regulations that are based on anything other than the best reading of the underlying statutory authority or prohibition, that several documents previously issued by HHS no longer represent the views of the Department or this Administration or are otherwise no longer applicable. OCR is issuing this notice to inform the public of the views that it disavows/repudiates or rescinds the listed documents and that covered entities should not rely on these documents' statements of law and policy to the extent noted below.

Through this deregulatory action, the Office for Civil Rights is removing guidance that previously created additional compliance costs through confusion over the meaning of underlying statutory requirements. To the extent that covered entities were incurring costs as a result of these guidance documents, this announced rescission will avert those ongoing costs.

II. Basis for Disavowal/Repudiation or Rescission

Deregulation Item 1: OCR Letter to University of Vermont Medical Center

OCR disavows the legal positions stated in a July 2021 letter it sent to the University of Vermont Medical Center (UVMMC) withdrawing OCR's prior Notice of Violation letter from August 28, 2019.¹ The August 2019 Notice of Violation stated that UVMMC violated the Church Amendments by discriminating against a health care professional by requiring the professional to violate their conscience and assist in an abortion.² OCR's 2021 letter took a different interpretation of the Church Amendments from that of the 2019 letter by concluding that that the UVMMC did not violate the Church Amendments since those provisions may need to be interpreted in light of Title VII of the Civil Rights Act of 1964. OCR's 2021 letter stated that the medical center may only have obligations to follow the Church Amendments when it does not experience an undue hardship under the framework in Title VII. The Church Amendments do not contain any undue hardship exemption. The legal views stated in OCR's 2021 letter no longer represent the views of the Department or this Administration. Therefore, consistent with Executive Order 14192, Unleashing Prosperity Through Deregulation, OCR repudiates those views.

¹ A similar letter was sent to the attorney for the complainant on the same day.

² https://www.hhs.gov/conscience/conscience-protections/uvmmc-letter/index.html.

Deregulation Item 2: 3 Letters Concerning 45 CFR 75.300, RFRA, and Foster Care

OCR disavows policies and legal conclusions found in three letters sent on November 2021 (two from OCR to Michigan ³ and to Texas,⁴ and one from the Administration for Children and Families (ACF) to South Carolina ⁵). These three letters in turn withdrew three other letters previously issued in March 2020 (two from OCR and one from ACF) granting religious exemptions from grants regulation in place at the time, 45 CFR 75.300(c), (d). Subsections (c) and (d) of section 75.300 extended non-discrimination principles beyond those required by statute and case law to require some grant recipients to violate their religious convictions in order to receive federal funding. The 2020 letters granted exemptions under the Religious Freedom Restoration Act (RFRA) which allowed religious foster care agencies to operate in accordance with their faith-tradition, including, in the case of South Carolina, allowing them to work only with foster care or adoptive parents of the same religious faith.

³ https://web.archive.org/web/20240927035740/https://www.hhs.gov/conscience/religious-freedom/state-letter-to-michigan-withdrawing-exception-from-non-discrimination-requirements/index.html.

⁴ https://web.archive.org/web/20250131145323/https://www.hhs.gov/conscience/religious-freedom/state-letter-to-texas-withdrawing-exception-from-non-discrimination-requirements/index.html.

⁵ https://acf.gov/sites/default/files/documents/withdrawal-of-exception-from-part-75.300-south-carolina-11-18-2021.pdf.

The three November 2021 letters withdrawing the three 2020 waiver letters contained an analysis of RFRA to which HHS and the Administration no longer ascribe. The 2021 rescission letters stated that (1) granting the exemptions to the grants regulation requirements might have limited access to foster care for some children, (2) preventing these harms supported rejecting an exemption requested by these states under the RFRA compelling interest test, and (3) the waiver letters interpreted the statute too broadly by creating a class-wide exemption throughout a state. Neither the factual predicate concerning the impact of religious exemptions on foster care youth nor the legal analysis of RFRA's application to the facts contained in the 2021 withdrawal letters represents the views of the Department or this Administration. Indeed, after issuing the November 2021 letters, the previous Administration removed the underlying grants rule's civil rights policy requirements entirely, for secular and religious entities nationwide. Promulgating a new grants rule in 2024 that removed these policy requirements undercuts the proposition that there was a governmental compelling interest in applying them to objecting religious entities. The 2021 letters' interpretation of RFRA is no longer held by this Administration and is therefore repudiated under Executive Order 14192, Unleashing Prosperity Through Deregulation, and covered entities should not rely on it.

Deregulation Item 3: Guidance on Equitable Administration of COVID Vaccines

OCR disavows views contained in the December 2021 guidance ⁶ regarding the equitable administration of vaccines. This Guidance relies on Executive Order 13995, Ensuring an Equitable Pandemic Response and Recovery, which was rescinded on January 20, 2025, by Executive Order 14148, Initial Rescissions of Harmful Executive Orders and Actions. Additionally, policies stated in this guidance no longer represent the views of the Department or this Administration, and the public health emergency for the COVID pandemic is over. Therefore, OCR repudiates this guidance effective immediately under Executive Order 14192, Unleashing Prosperity Through Deregulation, and covered entities should not rely on it.

⁶ https://www.hhs.gov/civil-rights/for-providers/civil-rights-covid19/guidance-federal-legal-standards-covid-19-vaccination-programs/index.html.

Deregulation Item 4: Letter Rescinding a Notice of Violation Letter Concerning California's Violation of the Weldon Amendment Conscience Protection

OCR disavows legal positions stated in an August 2021 letter ⁷ that OCR sent to the Attorney General of California, which withdrew a January 24, 2020 Notice of Violation letter issued to the Attorney General of California. The January 2020 Notice of Violation stated that the State of California violated the Weldon Amendment by mandating insurance coverage of abortion. The Weldon Amendment is a provision in the annual Department of Labor, Health and Human Services Act appropriations statute that restricts funds under the act to a federal agency or program, or to a state or local government, if it “subjects any institutional or individual health care entity to discrimination on the basis that the health care entity does not provide, pay for, provide coverage of, or refer for abortions.” The Weldon Amendment defines “health care entity” to include “a health maintenance organization, a health insurance plan, or any other kind of health care . . . plan.”

⁷ https://www.hhs.gov/conscience/conscience-protections/ca-letter/index.html.

The January 2020 Notice of Violation stated that California violated the Weldon Amendment by discriminating against health care plans that limited or excluded abortion coverage. OCR's August 2021 withdrawal letter determined that the finding of a violation could not be sustained because (1) health plan sponsors or employers, including the complainants, do not meet the definition of “health care entity” under the Weldon Amendment; (2) the relevant health insurers that were subject to the California mandate are protected “health care entities” under the Weldon Amendment, but they did not object to amending their plans to provide abortion coverage or claim they had been subject to discrimination under the Weldon Amendment; and (3) the complainants did not otherwise file their complaints on behalf of an entity that would have met the definition of a “health care entity” under the Weldon Amendment. OCR disavows these legal positions stated in OCR's 2021 withdrawal letter, which do not represent the views of the Department or this Administration. Covered entities should not rely on this letter.

III. Collection of Information Requirements

This Notice creates no legal obligations and no legal rights. Because this Notice imposes no information collection requirements, it need not be reviewed by the Office of Management and Budget under the Paperwork Reduction Act of 1995 (44 U.S.C. 3501 et seq.).

Dated: January 21, 2026.
Paula M. Stannard,
Director, Office for Civil Rights, Department of Health and Human Services.

[FR Doc. 2026-01434 Filed 1-23-26; 8:45 am]

BILLING CODE 4153-01-P